ADMINISTRATIVE CONFERENCE OF THE UNITED STATES

Notice of Public Meeting of the Assembly of the Administrative Conference of the United States

AGENCY: Administrative Conference of the United States.

ACTION: Notice.

SUMMARY: Pursuant to the Federal Advisory Committee Act, the Assembly of the Administrative Conference of the United States will hold a meeting to consider five proposed recommendations and to conduct other business. This meeting will be open to the public.

DATES: The meeting will take place on Thursday, December 13, 2018, 1:00 p.m. to 5:15 p.m., and Friday, December 14, 2018, 9:00 a.m. to 11:45 a.m. The meeting may adjourn early if all business is finished.

ADDRESSES: The meeting will be held at the George Washington University Law School, Jacob Burns Moot Court Room, 2000 H Street NW, Washington, DC 20052.

FOR FURTHER INFORMATION CONTACT: Shawne McGibbon, General Counsel (Designated Federal Officer), Administrative Conference of the United States, Suite 706 South, 1120 20th Street NW, Washington, DC 20036; Telephone 202-480-2080; email smcgibbon@acus.gov.

SUPPLEMENTARY INFORMATION: The Administrative Conference of the United States makes recommendations to federal agencies, the President, Congress, and the Judicial Conference of the United States regarding the improvement of administrative procedures (5 U.S.C. 594). The membership of the Conference, when meeting in plenary session, constitutes the Assembly of the Conference (5 U.S.C. 595).

Agenda: The Assembly will consider five proposed recommendations as described below:

Recusal Rules for Administrative Adjudicators. This proposed recommendation urges agencies to adopt procedural regulations governing the recusal of adjudicators—as distinct from the ethics laws and regulations generally applicable to all federal employees—and provides guidance on how such regulations should be promulgated and enforced. The proposed recommendation expands upon ACUS Recommendation 2016-4, Evidentiary Hearings Not Required by the Administrative Procedure Act, and revisits parts of the recommendation proposed by the Committee on Adjudication entitled Administrative Judges. Unlike these earlier recommendations, the proposed recommendation covers both administrative law judges (ALJs) and non-ALJ adjudicators.

Public Availability of Adjudication Rules. This proposed recommendation offers best practices to agencies for enhancing the accessibility of the procedural rules that govern the adjudications they conduct. Among other things, it encourages agencies to make procedural rules for adjudications and related guidance documents available on their websites and to organize those materials in a way that allows both parties appearing before the agencies and members of the public to easily access the documents and understand their legal significance.

Regulations.gov and the Federal Docket Management System (FDMS). This proposed recommendation offers suggested improvements to Regulations.gov, the website that allows the public to comment on many federal agencies' rulemaking proposals. It provides recommendations to the governing body of Regulations.gov, called the eRulemaking Program, and to agencies that participate in Regulations.gov for ensuring that rulemaking materials on Regulations.gov are easily searchable and categorized consistently and clearly.

Public Engagement in Rulemaking. This proposed recommendation offers strategies for agencies to enhance public engagement prior to and during informal rulemaking. It encourages agencies to invest resources in a way that maximizes the probability that rule-writers obtain high quality public information as early in the process as possible. It recommends expanding the use of requests for information and advance notices of proposed rulemaking, targeting outreach to reach individuals who might otherwise be unlikely to participate, and taking advantage of in-person engagement opportunities to solicit stakeholder input and support future informed participation.

Public-Private Partnerships. This proposed recommendation offers agencies guidance on legal and other considerations for participating in public-private partnerships. It commends to agencies a Guide to Legal Issues Encountered in Public-Private Partnerships, published by an interagency working group convened by the Office of the Chairman of the Administrative Conference, and proposes mechanisms that allow agencies to share resources and best practices with one another for purposes of creating and maintaining public-private partnerships.

Additional information about the proposed recommendations and the order of the agenda, as well as other materials related to the meeting, can be found at the 70th Plenary Session page on the Conference's website: https://www.acus.gov/meetings-and-events/plenary-meeting/70th-plenary-session.

Public Participation: The Conference welcomes the attendance of the public at the meeting, subject to space limitations, and will make every effort to accommodate persons with disabilities or special needs. Members of the public who wish to attend in person are asked to RSVP online at the 70th Plenary Session web page shown above, no later than two days before the meeting, in order to facilitate entry. Members of the public who attend the meeting may be permitted to speak only with the consent of the Chairman and the unanimous approval of the members of the Assembly. If you need special accommodations due to disability, please inform the Designated Federal Officer noted above at least 7 days in advance of the meeting. The public may also view the meeting through a live webcast, which will be available at https://www.youtube.com/user/gwlawschool during the course of the event. At the conclusion of the event, the webcast will be archived and available for later viewing on the 70th Plenary Session web page.

Written Comments: Persons who wish to comment on any of the proposed recommendations may do so by submitting a written statement either online by clicking “Submit a Comment” on the 70th Plenary Session web page shown above or by mail addressed to: December 2018 Plenary Session Comments, Administrative Conference of the United States, Suite 706 South, 1120 20th Street NW, Washington, DC 20036. Written submissions must be received no later than 10:00 a.m. (EDT), Friday, December 7, 2018, to assure consideration by the Assembly.

Dated: November 16, 2018.
Shawne McGibbon,
General Counsel.

[FR Doc. 2018-25401 Filed 11-20-18; 8:45 am]

BILLING CODE 6110-01-P